ENVIRONMENTAL PROTECTION AGENCY

[FRL-7667-6]

Notice of Open Meeting, Environmental Financial Advisory Board, Workshop on Financial Assurance Mechanisms

AGENCY: Environmental Protection Agency (EPA).

ACTION: Notice.

SUMMARY: The United States Environmental Protection Agency's Environmental Financial Advisory Board (EFAB) will hold an open meeting of its Preventing Future Non-Funded Abandoned Sites Project Workgroup.

EFAB is chartered with providing analysis and advice to the EPA Administrator and program offices on issues relating to environmental finance. The purpose of this meeting is for the EFAB to collect information and ideas with respect to a number of important financial assurance topics. The first day of the workshop will examine the financial test for self-insurance and corporate guarantees, corporate sibling guarantees, and disclosure issues. The second day will focus on a number of insurance issues, including the strengths and pitfalls of insurance, insurer ratings and capitalization requirements, and captive insurance. Each day will be structured to address the issues via a series of panel discussions involving experts from federal and state governments; finance, banking, and accounting firms; insurance companies and brokers; business and industry; the legal community; and environmental organizations.

The meeting is open to the public, but seating may be limited. Because of building security requirements, all members of the public who wish to attend this meeting must register in advance, no later than Thursday, June 10, 2004.

DATES: June 14, 2004 from 9 a.m.-5 p.m., and June 15, 2004 from 9 a.m.-4:30 p.m.

ADDRESSES: ConEdison, 4 Irving Place, 19th Floor, New York, NY 10003.

FOR FURTHER INFORMATION CONTACT: To register for the meeting or get further information, please contact Timothy McProuty, U.S. EPA, at 202—564-4996 or mcprouty.timothy@epa.gov.

Dated: May 17, 2004.
Joseph Dillon,
Director, Office of Enterprise Technology and Innovation.

[FR Doc. 04-12019 Filed 5-26-04; 8:45 am]

BILLING CODE 6560-50-P